DEPARTMENT OF HOMELAND SECURITY

U.S. Customs and Border Protection

[OMB Control Number 1651-0050]

Agency Information Collection Activities; Revision; Importation Bond

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than February 21, 2025) to be assured of consideration.

ADDRESSES: Written comments and/or suggestions regarding the item(s) contained in this notice must include the OMB Control Number 1651-0050 in the subject line and the agency name. Please submit written comments and/or suggestions in English. Please use the following method to submit comments: Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Importation Bond.

OMB Number: 1651-0050.

Form Number: 301 & 5297.

Current Actions: Revision.

Type of Review: Revision.

Affected Public: Businesses.

Abstract: CBP proposes to update the CBP Form 301 instructions to add reference to a new collection, under activity code 21, for a Low Value Shipment Safekeeping (LVSS) bond. The LVSS bond will be required by the Commissioner and Notice of Specific Instruction will be published in the Customs Bulletin. The CBP Form 301 will not be used to collect the bond information, however the instructions will point the public to the Customs Bulletin where they can find the approved bond terms, conditions, and form.

All arriving air carriers and parties who currently or who seek to operate a facility other than an Express Consignment Carrier Facilities that is or will be used to process shipments for which the Section 321 exemption is claimed, either through the submission of Type 86 entries or for entry by presenting the manifest under 19 CFR 143.23(j){3) and 143.26(b), are required to have an LVSS bond on file in the Automated Commercial Environment (ACE). This bond also will be a requirement for all applicants for newly established facilities used to process shipments for which the Section 321 exemption is claimed.

The bond will be transmitted to CBP electronically, via email, to the Office of Finance—Revenue Division and be manually entered into ACE eBond.

There are no changes being made to the CBP Form 5297.

Type of Information Collection: 5297 Power of Attorney.

Estimated Number of Respondents: 500.

Estimated Number of Annual Responses per Respondent: 1.

Estimated Number of Total Annual Responses: 500.

Estimated Time per Response: 15 minutes.

Estimated Total Annual Burden Hours: 125.

Type of Information Collection: 301 Customs Bond.

Estimated Number of Respondents: 609,392.

Estimated Number of Annual Responses per Respondent: 1.

Estimated Number of Total Annual Responses: 609,392.

Estimated Time per Response: 15 minutes.

Estimated Total Annual Burden Hours: 152,348.

Type of Information Collection: LVSS Specific Instruction Bond.

Estimated Number of Respondents: 700.

Estimated Number of Annual Responses per Respondent: 1.

Estimated Number of Total Annual Responses: 700.

Estimated Time per Response: 15 minutes.

Estimated Total Annual Burden Hours: 175.

Dated: December 18, 2024.
Seth D. Renkema,
Branch Chief, Economic Impact Analysis Branch, U.S. Customs and Border Protection.

[FR Doc. 2024-30614 Filed 12-20-24; 8:45 am]

BILLING CODE 9111-14-P